NATIONAL AERONAUTICS AND SPACE ADMINISTRATION

[Notice: (14-031)]

NASA Advisory Council; Technology and Innovation Committee; Meeting

AGENCY: National Aeronautics and Space Administration.

ACTION: Notice of meeting.

SUMMARY: In accordance with the Federal Advisory Committee Act, Public Law 92-463, as amended, the National Aeronautics and Space Administration (NASA) announces a meeting of the Technology and Innovation Committee of the NASA Advisory Council (NAC). This Committee reports to the NAC.

DATES: Tuesday, April 15, 2014, 8:30 a.m. to 5:15 p.m., Local Time.

ADDRESSES: NASA Headquarters, Room MIC 5A, 300 E Street SW., Washington, DC 20546.

FOR FURTHER INFORMATION CONTACT: Mr. Mike Green, Space Technology Mission Directorate, NASA Headquarters, Washington, DC 20546, (202) 358-4710, or g.m.green@nasa.gov.

SUPPLEMENTARY INFORMATION: The meeting will be open to the public up to the seating capacity of the room. This meeting is also available telephonically and by WebEx. Any interested person may call the USA toll free conference call number (866) 804-6148, passcode 3472886, to participate in this meeting by telephone. The WebEx link is https://nasa.webex.com/, the meeting number is 997 239 320, and the password is Technology0414#.

The agenda for the meeting includes the following topics:

—Space Technology Mission Directorate Update

—Office of the Chief Technologist Update

—Overview and Update on Small Spacecraft Program

—Briefing and Overview of NASA's Advance Manufacturing Activities

—Office of the Chief Engineer Update and Role in New Committee Charter

Attendees will be requested to sign a register and to comply with NASA security requirements, including the presentation of a valid picture ID to Security before receiving access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Ms. Anyah Dembling via email at anyah.b.dembling@nasa.gov or by telephone at (202) 358-5195. U.S. citizens and Permanent Residents (green card holders) are requested to submit their name and affiliation 3 working days prior to the meeting to Ms. Anyah Dembling. It is imperative that the meeting be held on these dates to accommodate the scheduling priorities of the key participants.

Patricia D. Rausch,
Advisory Committee Management Officer, National Aeronautics and Space Administration.

[FR Doc. 2014-06383 Filed 3-21-14; 8:45 am]

BILLING CODE 7510-13-P